DEPARTMENT OF COMMERCE

Submission for OMB Review; Comment Request

The Department of Commerce (DOC) has submitted to the Office of Management and Budget (OMB) for clearance the following proposal for collection of information under provisions of the Paperwork Reduction Act (44 U.S.C. Chapter 35)

Agency: Bureau of Industry and Security (BIS).

Title: Chemical Weapons Convention Declaration Forms.

Agency Form Number: Form 1-1, Form 1-2, Form 1-2A, Form 1-2B, etc.

OMB Approval Number: 0694-0091.

Type of Request: Renewal of a currently approved collection.

Burden: 20,538 hours.

Average Time Per Response: 10 minutes-31 hours per response.

Number of Respondents: 929 respondents.

Needs and Uses: Declarations: The CWC requires annual declarations and reports for activities involving Schedule 1, Schedule 2, Schedule 3 and Unscheduled Discrete Organic Chemicals (UDOCs) above specified threshold quantities. The frequency of this collection is the minimum required under the CWC. The associated Declaration and Report Handbooks and the forms are available from the following Internet URL: http://www.cwc.gov/Declarations/Handbooks_and_Forms/cwcIndex_html

Schedule 1: The CWC requires annual declarations for facilities that produced in excess of specified aggregate quantities of Schedule 1 chemicals in the previous calendar year.

Schedule 2: The CWC requires plant sites that had one or more plants that produced, processed or consumed Schedule 2 chemicals above the applicable threshold quantity during any of the three previous to determine whether there is an annual declaration requirement on past activities.

Schedule 3: The CWC requires annual declarations from plant sites that had one or more plants that produced in excess of specified quantities of one or more Schedule 3 chemicals in the previous calendar year.

UDOCs: Although the majority of declarations are required from plant sites that produced UDOCs, the declaration requirements for such production involve the fewest forms. The CWC only requires declarations from plant sites that produced UDOCs in excess of specified quantities in the previous calendar year.

BIS officials review the information collected from the data declarations for completeness and accuracy. The data is then compiled into a report for transmittal to the U.S. National Authority (USNA) and subsequent presentation to the Organization for the Prohibition of Chemical Weapons (OPCW). The collected data will also be used by BIS officials to monitor the aggregate amount of Schedule 1 chemicals in the United States to ensure that it is at all times below 1 metric ton (as required by Part VI.A.2 of the Convention's Annex on Implementation and Verification), and to prepare such additional reports as the USNA may reasonably require.

Inspections: Each State Party to the CWC, including the United States Government, has agreed to allow inspections of certain declared facilities by inspectors employed by the OPCW to ensure that their activities are consistent with obligations under the CWC. The Department of Commerce is responsible for leading, hosting and escorting inspections of all facilities in the United States, except Department of Defense and Department of Energy facilities and other United States Government facilities that notify the USNA of their decision to be excluded from the CWCR.

Affected Public: Individuals, businesses or other for-profit institutions.

Respondent's Obligation: Mandatory.

OMB Desk Officer: David Rostker.

Copies of the above information collection proposal can be obtained by calling or writing Diana Hynek, DOC Paperwork Clearance Officer, Office of the Chief Information Officer, (202) 482-0266, Department of Commerce, Room 6625, 14th and Constitution Avenue, NW., Washington, DC 20230.

Written comments and recommendations for the proposed information collection should be sent within 30 days of publication of this notice to David Rostker, OMB Desk Officer, Room 10202, New Executive Office Building, Washington, DC 20230.

Dated: March 7, 2003.
Madeleine Clayton,
Departmental Paperwork Clearance Officer, Office of the Chief Information Officer.

[FR Doc. 03-5967 Filed 3-12-03; 8:45 am]

BILLING CODE 3510-33-P